DEPARTMENT OF TRANSPORTATION

Federal Transit Administration

Early Scoping Notice for the Central Puget Sound Regional Transit Authority Proposed Everett Link Extension (EVLE) From Lynnwood to Everett, WA

AGENCY: Federal Transit Administration, Department of Transportation (DOT).

ACTION: Early scoping notice.

SUMMARY: The Federal Transit Administration (FTA) and the Central Puget Sound Regional Transit Authority (Sound Transit) issue this early scoping notice to advise tribes, agencies, and the public that FTA and Sound Transit will explore potential route and station alternatives for the Everett Link light rail extension (EVLE or Project) and are starting to determine the scope of the environmental issues associated with the Project. The Project would extend Link light rail from the Lynnwood City Center Station to the Everett Station area in Snohomish County, Washington, and improve connections to the regional transit system and major activity centers. Potential alternatives for a light rail operations and maintenance facility (OMF North) in Snohomish County will also be explored to support the regional Link light rail program, including EVLE.

DATES: Two online public early scoping meetings will be held at the following times (all times are Pacific Standard Time):

• Wednesday, November 17, 2021, from 12:00-1:30 p.m.

• Thursday, November 18, 2021, from 6:00-7:30 p.m.

These early scoping meetings will be conducted in a webinar format, accessible via the internet and by teleconference. Registration for an online public early scoping meeting can be done in advance of the meeting at everettlink.participate.online.

FTA and Sound Transit have also scheduled an interagency and tribal early scoping meeting on November 8, 2021, to receive comments from tribes and agencies who have an interest in the proposed Project. Invitations to the tribal and agency early scoping meeting will be sent to appropriate federal, tribal, state, and local government units and will include details on how to participate in the online meeting.

Supplemental information about the Project is provided in the following sections. Sound Transit will also provide information on the alternatives analysis at the early scoping meetings, along with opportunities for comments. Information is also available on the Sound Transit website at https://www.soundtransit.org/system-expansion/everett-link-extension.

Written early scoping comments are requested by December 10, 2021, and can be mailed or emailed to the addresses below. Comments can also be provided via the online comment form available at the website address below or left as a voicemail at the phone number below.

ADDRESSES: Kathy Fendt, Sound Transit, 401 S Jackson Street, Seattle, WA 98104-2826, Email: EverettLinkComments@soundtransit.org, Project website: everettlink.participate.online, Voicemail Phone Number: 888-512-8599. Information in alternative formats: 800-201-4900/TTY: 711 or accessibility@soundtransit.org.

FOR FURTHER INFORMATION CONTACT: Mark Assam, Environmental Protection Specialist, Region 10, Federal Transit Administration, 915 Second Avenue, Suite 3142, Seattle WA 98174, phone: 206-220-4465, email: Mark.Assam@dot.gov.

SUPPLEMENTARY INFORMATION:

Early Scoping

Early scoping is an optional element of the NEPA process that is intended to invite public, agency, and tribal comments at the earliest reasonable time in project planning, as in the case for this Project, where alignment and siting variations are under consideration in a broadly defined study area. FTA is the lead federal agency under NEPA. Early scoping is also being conducted under the Washington State Environmental Policy Act (SEPA) rules regarding expanded scoping (Washington Administrative Code 197-11-410). Sound Transit is the lead agency under SEPA.

Early scoping can ensure that tribes, agencies, and the public have the opportunity to review and provide comments on the proposal that can then be used to inform subsequent steps in the NEPA process.

Early scoping is being initiated for EVLE during the Project's alternatives development phase. This early scoping notice invites the public and other interested parties to comment on the scope of the alternatives development analysis, including the following: (a) The purpose and need for the Project; (b) the range of alternatives for light rail route, station, and OMF locations; (c) the impacts and benefits to the social, built, and natural environments; and (d) other considerations that are relevant to the evaluation of alternatives. These early scoping efforts are being conducted in support of NEPA requirements and in accordance with the Council on Environmental Quality's regulations for implementing NEPA.

Purpose and Need for the Project

The purpose of the EVLE is to expand the Link light rail system from the Lynnwood City Center Station to the Everett Station area and provide an operations and maintenance facility in order to:

• Provide high quality, rapid, reliable, accessible, and efficient light rail transit service to communities in the Project corridor as defined through the local planning process and reflected in the Sound Transit 3 (ST3) Plan (Sound Transit 2016).

• Improve regional mobility by increasing connectivity and capacity in the EVLE corridor from the Lynnwood Transit Center to the Everett Station area to meet projected transit demand.

• Connect regional centers as described in adopted regional and local land use, transportation, and economic development plans and Sound Transit's Regional Transit Long-Range Plan (Sound Transit 2014).

• Implement a system that is technically and financially feasible to build, operate, and maintain.

• Expand mobility for the corridor and region's residents, including explicit consideration for transit-dependent, low-income, and minority populations.

• Encourage equitable and sustainable growth in station areas through support of transit-oriented development and multimodal integration in a manner that is consistent with local land use plans and policies, including South Transit's Equitable Transit Oriented Development Policy (Sound Transit 2018) and Sustainability Plan (Sound Transit 2019).

• Encourage convenient, safe, and equitable nonmotorized access to stations, such as bicycle and pedestrian connections, consistent with Sound Transit's System Access Policy (Sound Transit 2013) and Equity and Inclusion Policy (Sound Transit 2019).

• Preserve and promote a healthy environment and economy by minimizing adverse impacts on the natural, built, and social environments through sustainable and equitable practices.

• Provide an OMF with the capacity to receive, test, commission, store, maintain, and deploy vehicles to support the intended level of service for system-wide light rail system expansion.

• Develop an OMF that supports efficient and reliable light rail service and minimizes system operating costs.

The Project is needed because:

• Chronic roadway congestion on Interstate 5 (I-5) and State Route (SR) 99—two primary highways connecting communities along the corridor—delays today's travelers, including those using transit, and degrades the reliability of bus service traversing the corridor, particularly during commute periods.

• These chronic, degraded conditions are expected to continue to worsen as the region's population and employment grow.

• Puget Sound Regional Council (the regional metropolitan planning organization) and local plans call for high-capacity transit in the corridor consistent with VISION 2050 (Puget Sound Regional Council 2020) and the Regional Transit Long-Range Plan (Sound Transit 2014).

• Snohomish County residents and communities, including transit-dependent residents and low-income or minority populations, need long-term regional mobility and multimodal connectivity, as called for in the Washington State Growth Management Act (Revised Code of Washington 36.70A.108).

• Regional and local plans call for increased residential and/or employment density at and around high-capacity stations and increased options for multimodal access.

• Environmental and sustainability goals of the state and region, as established in Washington state law and embodied in Puget Sound Regional Council's VISION 2050 (Puget Sound Regional Council 2020) and Regional Transportation Plan (Puget Sound Regional Council 2018), include reducing greenhouse gas emissions by prioritizing transportation investments that decrease vehicle miles traveled.

• The current regional system lacks an OMF with sufficient capacity and suitable location to support the efficient and reliable long-term operations for system-wide light rail expansion, including the next phase of light rail expansion in Snohomish and King counties.

• New light rail maintenance and storage capacity needs to be available with sufficient time to accept delivery of and commission new vehicles to meet fleet expansion needs and to store existing vehicles while the new vehicles are tested and prepared.

Project Description

The Everett Link extension corridor is approximately 16 miles long and extends Link light rail service north from the Lynnwood City Center Station to the Everett Station area. The Project includes six new Link stations and study of one additional provisional station during the planning process. The new light rail stations would be located in the following areas: (a) West Alderwood; (b) Ash Way; (c) Mariner Station; (d) Southwest Everett Industrial Center; (e) State Route (SR) 526/Evergreen; and (f) Everett. The provisional station is in the SR 99/Airport Road area. From Lynnwood, the proposed Link route parallels I-5 to the Mariner Station area, and then travels westward along Airport Road to the SW Everett Industrial Center and eastward along SR 526/Evergreen Way, before it continues northward along I-5 to Everett. The Project also includes a new operations and maintenance facility that will support the system-wide Link light rail system (OMF North), to be located along the alignment in Snohomish County.

Project Context and History

Sound Move, the first phase of regional transit investments, was approved and funded by voters in 1996. Regional transit implemented as part of the Sound Move Plan included various Sounder commuter rail, regional Sound Transit Express bus, and Link light rail services that are now operational, including the Central Link light rail system, and the light rail extension to the University of Washington. In 2008, voters authorized funding for additional regional transit services as part of the Sound Transit 2 (ST2) Plan. The ST2 Plan extends Link light rail by approximately 36 miles including extensions east to Bellevue, south to Federal Way, and north to Northgate and Lynnwood. The Northgate extension opened in October 2021, and the other projects are currently under construction with the Lynnwood Link Extension opening for revenue service in 2024. The third phase of regional transit investments, ST3, was approved and funded by voters in 2016. ST3 will further extend the Link light rail system east from Bellevue to Redmond, south from Federal Way to Tacoma, north from Lynnwood to Everett, and from downtown Seattle to West Seattle and Ballard.

Based on current revenue projections and cost estimates for the Everett Link extension, Sound Transit anticipates opening service from Lynnwood to SW Everett Industrial Center in 2037 and from SW Everett Industrial Center to Everett Station in 2041. The OMF North is currently planned for completion in 2034, and parking at Mariner and Everett stations is planned for completion in 2046.

Potential Alternatives

Previous planning work done to support development of the ST3 Plan included an examination of a range of potential high-capacity transit modes and alignment options between Lynnwood and Everett, including both bus rapid transit and light rail options on several potential alignments including I-5, SR 99, SR 525 and SR 526. Based on the analysis, a representative project was developed for the Everett Link extension for the purposes of establishing project scope, cost estimates, and ridership forecasts. The representative project developed for all ST3 projects, including the Everett Link extension, formed the basis of the ST3 Plan, financing for which was approved by the voters in 2016. The ST3 representative project is being used to establish the transit mode, corridor, number of stations, and general station locations during alternatives development. It is also the starting point for investigating other reasonable alternatives consistent with the ST3 Plan.

As part of the alternatives development phase for the Project, FTA and Sound Transit will explore alternative alignment, station, and OMF North locations and design configurations that could meet the Project's purpose and need. During this early scoping comment period, FTA and Sound Transit invite comments on the Project purpose and need, the ST3 representative project, other potential alternatives, and environmental issues of concern. Alternatives could include alignments on the west or east side of I-5, or other alternatives that arise during the early scoping comment period. During the alternatives development phase, FTA and Sound Transit will evaluate the relative performance of alternatives using performance measures that reflect the purpose and need for the Project. Examples of these measures include projected light rail ridership; capital, operations and maintenance costs; and potential benefits or burdens to vulnerable populations in the corridor. As part of early scoping, FTA and Sound Transit also invite tribes, agencies, and the public to comment on the types of impacts or benefits that should be considered during the alternatives development phase.

Next Steps

Following early scoping, FTA and Sound Transit anticipate narrowing the range of alternatives for further evaluation in a combined NEPA/SEPA environmental document. If the resulting range of alternatives involves the potential for significant environmental impacts requiring an environmental impact statement (EIS), FTA will publish a Notice of Intent to Prepare an EIS in the Federal Register, and Sound Transit will publish a Determination of Significance/Scoping Notice. Tribes, agencies, and the public will be invited to comment on the scope of the EIS at that time.

Authority: 49 CFR 622.101, 23 CFR 771.111, and 40 CFR 1501.7.

Linda M. Gehrke,
Regional Administrator.

[FR Doc. 2021-24181 Filed 11-4-21; 8:45 am]

BILLING CODE 4910-57-P